DEPARTMENT OF DEFENSE

GENERAL SERVICES ADMINISTRATION

NATIONAL AERONAUTICS AND SPACE ADMINISTRATION

48 CFR Parts 7 and 15

[FAC 2005-61; Item V; Docket 2012-0079; Sequence 4]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective Date: September 13, 2012.

FOR FURTHER INFORMATION CONTACT: The Regulatory Secretariat, 1275 First Street NE., 7th Floor, Washington, DC 20417, 202-501-4755, for information pertaining to status or publication schedules. Please cite FAC 2005-61, Technical Amendments.

SUPPLEMENTARY INFORMATION: In order to update certain elements in 48 CFR parts 7 and 15, this document makes editorial changes to the FAR.

List of Subjects in 48 CFR Parts 7 and 15.

Government procurement.

Dated: September 7, 2012.
Laura Auletta,
Director, Office of Governmentwide Acquisition Policy, Office of Acquisition Policy, Office of Governmentwide Policy.

Therefore, DoD, GSA, and NASA amend 48 CFR parts 7 and 15 as set forth below:

1. The authority citation for 48 CFR parts 7 and 15 is revised to read as follows:

Authority: 40 U.S.C. 121(c); 10 U.S.C. chapter 137; and 51 U.S.C. 20113.

PART 7—ACQUISITION PLANNING

2. Amend section 7.403 by revising paragraph (b) to read as follows:

7.403 General Services Administration assistance.

* * * * *

(b) Agencies may request information from the following GSA office: U.S. General Services Administration, Federal Acquisition Service, Office of Acquisition Management, 2200 Crystal Drive, Room 806, Arlington, VA. 22202. Email: fasam@gsa.gov.

PART 15—CONTRACTING BY NEGOTIATION

15.404-1 [Amended]

3. Amend section 15.404-1 by removing from paragraph (a)(7) “http://www.acq.osd.mil/dpap/cpf/contract_pricing_reference_guides.html” and adding “http://www.acq.osd.mil/dpap/cpic/cp/contract_pricing_reference_guides.html” in its place.

[FR Doc. 2012-22588 Filed 9-12-12; 8:45 am]

BILLING CODE 6820-EP-P